DEPARTMENT OF THE TREASURY

Bureau of the Fiscal Service

Privacy Act of 1974, as Amended; System of Records

AGENCY: Bureau of the Fiscal Service, Department of the Treasury.

ACTION: Notice of new Privacy Act system of records.

SUMMARY: In accordance with the Privacy Act of 1974, as amended, 5 U.S.C. 552a, the Department of the Treasury, Bureau of the Fiscal Service (Fiscal Service) proposes to establish a new Privacy Act system of records entitled, “Department of the Treasury/Bureau of the Fiscal Service .024—OneVoice Customer Relationship Management.” This system of records allows the Fiscal Service to collect and maintain records that will allow the bureau to manage its customer interactions with its external “business” customers and vendors.

DATES: In accordance with 5 U.S.C. 552a(e)(4) and (11), the public is given a 30-day period in which to comment. Therefore, comments must be received no later than October 20, 2014. If no comments are received, the system will be effective on October 20, 2014.

ADDRESSES: Comments should be sent to Disclosure Officer, Bureau of the Fiscal Service, 401 14th Street SW., Washington, DC 20227, Attention: Revisions to Privacy Act Systems of Records. You may send your comments by electronic mail to David.Ambrose@fiscal.treasury.gov. For emails, please place “Revisions to SOR” in the subject line. Comments received will be available for inspection by appointment at the address listed above between the hours of 9 a.m. and 4 p.m. Monday through Friday. You should submit only information that you wish to make publicly available.

FOR FURTHER INFORMATION CONTACT:

For general questions please contact:

April Battle,

Director, Office of Agency Outreach,

Bureau of the Fiscal Service,

401 14th Street SW.,

Washington, DC 20227,

Phone: (202) 874-7491,

Email: April.Battle@fiscal.treasury.gov.

For privacy issues please contact:

David Ambrose,

Chief Privacy Officer,

Bureau of the Fiscal Service,

3700 East-West Highway, Room 803-A,

Hyattsville, MD 20782,

Phone: (202) 874-6488,

Email: David.Ambrose@fiscal.treasury.gov.

SUPPLEMENTARY INFORMATION:

I. Background

The Fiscal Service is responsible for providing reimbursable support services to federal agencies and for promoting the financial integrity and operational efficiency of the federal government through shared services. The Fiscal Service proposes to implement a Customer Relationship Management (CRM) tool to allow the bureau to manage its interactions with its external “business” customers and vendors. This tool will be configured for the enterprise using a “business to business” communication model. The CRM tool will benefit the Fiscal Service in these missions by: Centralizing customer contact data and related information, thereby providing a framework for implementing bureau-wide processes to enhance the “OneVoice” model (i.e., centralized reference point, collaborative processes, etc.); and establishing more efficient and streamlined processes with respect to customer outreach and other communication interactions.

The records covered by the proposed system of records may include personally identifiable information for work related contacts in government or state agencies, vendor organizations and other customer organizations working in conjunction with the Treasury to achieve its mission and objectives. Information that will be maintained will include: Full names, titles, physical work address, phone/fax numbers, and email address. Without such information it would not be possible to communicate effectively with current and prospective vendors and clients. The records may be received directly by the Fiscal Service, its fiscal or financial agents, and/or contractors.

Fiscal Service recognizes the sensitive nature of the confidential information it obtains when collecting individuals' names and addresses, and has many safeguards in place to protect the information from theft or inadvertent disclosure. When appropriate, the Fiscal Service's arrangements with its fiscal and financial agents and contractors include requirements that preclude them from retaining, disclosing, and using the information for any purpose other than contacting clients and vendors for business purposes. In addition to various procedural and physical safeguards, access to computerized records is limited through the use of access codes, encryption techniques and other internal mechanisms. Fiscal Service managers only grant access to the system of records to those whose official duties require access to the information.

Information stored in the OneVoice CRM tool may be shared with other Treasury components, as well as appropriate federal, state, local, tribal, territorial, foreign, or international government agencies. This sharing will only take place after Treasury determines that the receiving Treasury component or agency has a need to know the information to carry out national security, law enforcement, immigration, intelligence, or other functions consistent with the routine uses set forth in this system of records notice. This newly established system will be included in Treasury's inventory of record systems.

As required by 5 U.S.C. 552a(r) of the Privacy Act, the report of a new system of records has been provided to the House of Representatives Committee on Oversight and Government Reform, the Senate Committee on Homeland Security and Governmental Affairs, and OMB.

The proposed new system of records, entitled “Treasury/Bureau of the Fiscal Service—.024 OneVoice Customer Relationship Management” is published in its entirety below.

II. Public Disclosure.

Before including your address, phone number, email address, or other personal identifying information in your comment, you should be aware that your entire comment including your personal identifying information may be made publicly available at any time. While you can ask us in your comment to withhold your personal identifying information from public review, we cannot guarantee that we will be able to do so.

Dated: September 5, 2014.
Helen Goff Foster,
Deputy Assistant Secretary for Privacy, Transparency, and Records.

Treasury/Fiscal Service .024

System name:

OneVoice Customer Relationship Management—Department of the Treasury/Bureau of the Fiscal Service.

System location:

Records are maintained at the Bureau of the Fiscal Service (“Fiscal Service”), United States Department of the Treasury (“Treasury”), Washington, DC 20227. Records are also located throughout the United States at Fiscal Service operations centers, Federal Records Centers, Federal Reserve Banks acting as Treasury's fiscal agents, and financial institutions acting as Treasury's financial agents. The specific address for each of the aforementioned locations may be obtained upon request.

Categories of individuals covered by the system:

Sole proprietors and other entities which provide goods and/or services to the Fiscal Service (Vendors); and individuals representing agencies that purchase goods and/or services through the Fiscal Service (Clients).

Categories of records in the system:

• Client's or Vendor's Name,

• Agency or Organization identifier (if applicable),

• Position Information (Title and Expertise Area),

• Phone and Fax Numbers,

• Email Addresses, and

• Physical Work Address.

Authority for maintenance of the system:

5 U.S.C. 301.

Purpose(s):

The purpose of this system of records is to establish a CRM tool within the Fiscal Service. An enterprise-wide CRM tool is necessary to strategically promote, share, and guide the organization in developing processes for marketing, messaging, outreach, engagement and consistent product and service implementations. In addition, this system will increase transparency; improve outreach, communications and collaboration efforts with our customers and vendors; and employ sound, repeatable methodologies.

Routine uses of records maintained in the system, including categories of users and the purposes of such uses:

In addition to those disclosures generally permitted under 5 U.S.C. 552a(b) of the Privacy Act, all or a portion of the records or information contained in this system may be disclosed outside Treasury as a routine use pursuant to 5 U.S.C. 552a(b)(3) as follows:

(1) To a federal, state, or local agency, maintaining civil, criminal, or other relevant enforcement information or other pertinent information, which has requested information necessary or relevant to the requesting agency's official functions;

(2) To a Congressional office from the record of an individual in response to an inquiry from that congressional office made pursuant to a written Privacy Act waiver at the request of the individual to whom the record pertains;

(3) To a court, magistrate, or administrative tribunal in the course of presenting evidence, including disclosures to opposing counsel or witnesses in the course of civil discovery, litigation, or settlement negotiations or in connection with criminal law proceedings or in response to a subpoena;

(4) To appropriate agencies, entities, and individuals when:

(a) Treasury suspects or has confirmed that the security or confidentiality of information in the system of records has been compromised;

(b) Treasury has determined that as a result of the suspected or confirmed compromise there is a risk of harm to economic or property interests, identity theft or fraud, or harm to the security or integrity of this system or other systems or programs (whether maintained by the Department or another agency or entity) that rely upon the compromised information; and

(c) the disclosure made to such agencies, entities, and individuals is reasonably necessary to assist in connection with Treasury's efforts to respond to the suspected or confirmed compromise and prevent, minimize, or remedy such harm; or

(5) To the National Archives and Records Administration (NARA) or General Services Administration pursuant to records management inspections being conducted under the authority of 44 U.S.C. 2904 and 2906;

(6) To the news media and the public, with the approval of the Fiscal Service Chief Privacy Officer in consultation with counsel, when there exists a legitimate public interest in the disclosure of the information or when disclosure is necessary to preserve confidence in the integrity of Treasury or is necessary to demonstrate the accountability of Treasury's officers, employees, or individuals covered by the system, except to the extent it is determined that release of the specific information in the context of a particular case would constitute an unwarranted invasion of personal privacy.

Policies and practices for storing, retrieving, accessing, retaining, and disposing of records in the system:

Storage:

Records in this system are stored electronically on magnetic disc, tape, and similar electronic media.

Retrievability:

Records may be retrieved by name, address, or other alpha/numeric identifying information.

Safeguards:

Records in this system are safeguarded in accordance with applicable rules and policies, including all applicable Treasury automated systems security and access policies. Strict controls have been imposed to minimize the risk of compromising the information that is being stored. Access to the computer system containing the records in this system is limited to those individuals who have a need to know the information for the performance of their official duties, and who have appropriate permissions.

Retention and disposal:

Once interactions with a customer or vendor are concluded, the customer or vendor account is disabled. Records related to the interactions are destroyed at the end of the fiscal year seven years from the date that the account is disabled.

System Manager and address:

Director, Office of Agency Outreach

401 14th Street, SW

Washington, DC 20227

Notification procedure:

Inquiries under the Privacy Act of 1974, as amended, should be addressed to the Disclosure Officer, Bureau of the Fiscal Service, 401 14th Street SW., Washington, DC 20227. Individuals should describe the information they seek as specifically as possible. If an individual requests that information in a record be corrected, the system manager will advise the requestor where to send the request. Information concerning Privacy Act requests are published at 31 CFR part 1, Subpart C, and Appendix G.

Record access procedures:

See “Notification procedure” above.

Contesting record procedures:

See “Notification procedure” above.

Record source categories:

Records are obtained directly from clients and vendors and added to the system by authorized Fiscal Service employees, contractors, and fiscal or financial agents.

Exemptions claimed for the system:

None.

[FR Doc. 2014-22366 Filed 9-18-14; 8:45 am]

BILLING CODE 4810-35-P